DEPARTMENT OF HEALTH AND HUMAN SERVICES

Centers for Disease Control and Prevention

Disease, Disability, and Injury Prevention and Control Special Emphasis Panel: Collection of Specimen Panels for Validation for Incidence Assays, Contract Solicitation Number 2003-N-00872

In accordance with section 10(a)(2) of the Federal Advisory Committee Act (Pub. L. 92-463), the Centers for Disease Control and Prevention (CDC) announces the following meeting:

Name: Disease, Disability, and Injury Prevention and Control Special Emphasis Panel (SEP): Collection of Specimen Panels for Validation for Incidence Assays, Contract Solicitation Number 2003-N-00872.

Times and Dates: 7 p.m.-8 p.m., July 24, 2003 (Open); 8 a.m.-8:30 a.m., July 25, 2003 (Open); 8:30 a.m.-5 p.m., July 25, 2003 (Closed).

Place: The Westin Atlanta North at Perimeter Center, 7 Concourse Parkway, Atlanta, GA 30328, Telephone 770.395.3900.

Status: Portions of the meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to Contract Solicitation Number 2003-N-00872.

For Further Information Contact: Esther Sumartojo, Ph.D., Deputy Associate Director for Science, National Center for HIV, STD, and TB Prevention, CDC, 1600 Clifton Road, NE., MS-E07, Atlanta, GA 30333, Telephone 404.639.8006.

The Director, Management Analysis and Services Office, has been delegated the authority to sign Federal Register notices pertaining to announcements of meetings and other committee management activities, for both the CDC and the Agency for Toxic Substances and Disease Registry.

Dated: June 27, 2003.
Alvin Hall,
Director, Management Analysis and Services Office, Centers for Disease Control and Prevention (CDC).

[FR Doc. 03-17172 Filed 7-7-03; 8:45 am]

BILLING CODE 4163-18-P